SMALL BUSINESS ADMINISTRATION

Request for Comments on Small Business Administration Draft FY 2022-2026 Strategic Plan Framework and Enterprise Learning Agenda

Correction

In notice document 2021-23001, appearing on page 58376 in the issue of Thursday, October 21, 2021, make the following change:

On page 58376, in the first column, in the ADDRESSES section, beginning in the fourth line of text, “FY22-26StrategicPlan Feedback@SBA.gov” should read “FY22-26StrategicPlanFeedback@SBA.gov”.

[FR Doc. C1-2021-23001 Filed 10-28-21; 8:45 am]

BILLING CODE 0099-10-D